NUCLEAR REGULATORY COMMISSION

[Docket No. 50-382]

Entergy Operations, Inc.; Notice of Partial Denial of Amendment to Facility Operating License and Opportunity for Hearing

The U.S. Nuclear Regulatory Commission (NRC or the Commission) has denied a portion of an amendment request by Entergy Operations, Inc. (the licensee), for an amendment to Facility Operating License No. NPF-38, issued to the licensee for operation of the Waterford Steam Electric Station, Unit 3, located in St. Charles Parish, Louisiana. The Notice of Consideration of Issuance of this amendment was published in the Federal Register on December 7, 2004 (69 FR 70717).

The purpose of the licensee's amendment request was to revise Technical Specifications (TS) 3.7.4, “Ultimate Heat Sink,” to provide clarification that the ambient temperature monitoring requirement that is specified in TS 3.7.4.d only applies when the affected ultimate heat sink train is considered to be operable and to delete TS 3.7.4.c. Deleting TS 3.7.4.c would allow the plant to take credit for the dry cooling tower fans that are not protected from tornado missiles when a tornado warning is in effect.

The NRC staff has concluded that the portion of the licensee's request regarding deletion of TS 3.7.4.c cannot be granted. The licensee was notified of the Commission's denial of the proposed change by a letter dated September 28, 2006.

By 30 days from the date of publication of this notice in the Federal Register, the licensee may demand a hearing with respect to the denial described above. Any person whose interest may be affected by this proceeding may file a written petition for leave to intervene pursuant to the requirements of 10 CFR 2.309.

A request for hearing or petition for leave to intervene must be filed with the Secretary of the Commission, U.S. Nuclear Regulatory Commission, Washington, DC 20555-0001 Attention: Rulemakings and Adjudications Staff, or may be delivered to the Commission's Public Document Room (PDR), located at One White Flint North, Public File Area O1 F21, 11555 Rockville Pike (first floor), Rockville, Maryland, by the above date. Because of possible delays in delivery to mail to U.S. Government offices, it is requested that petitions for leave to intervene and requests for hearing be transmitted to the Secretary of the Commission either by means of facsimile transmission to 301-415-1101 or by e-mail to hearingdocket@nrc.gov. A copy of any petitions should also be sent to the Office of the General Counsel, U.S. Nuclear Regulatory Commission, Washington, DC 20555-0001, and because of possible delays in delivery of mail to the U.S. Government offices, it is requested that copies be transmitted either by means of facsimile transmission to 301-415-3725 or by e-mail to OGCMailCenter@nrc.gov. A copy of any petitions should also be sent to N. S. Reynolds, Esquire, Winston & Strawn, 1700 K Street, NW., Washington, DC 20006-3817, attorney for the licensee.

For further details with respect to this action, see (1) The application for amendment dated November 5, 2004, and (2) the Commission's letter to the licensee dated September 28, 2006.

Documents may be examined, and/or copied for a fee, at the NRC's PDR, located at One White Flint North, Public File Area O1 F21, 11555 Rockville Pike (first floor), Rockville, Maryland, and will be accessible electronically through the Agencywide Documents Access and Management System's (ADAMS) Public Electronic Reading Room link at the NRC Web site http://www.nrc.gov/reading-rm/adams.html. Persons who do not have access to ADAMS or who encounter problems in accessing documents located in ADAMS, should contact the NRC PDR Reference staff by telephone at 1-800-397-4209, 301-415-4737, or by e-mail to pdr@nrc.gov.

Dated at Rockville, Maryland, this 28th day of September 2006.
For the Nuclear Regulatory Commission.
Catherine Haney,
Director, Division of Operating Reactor Licensing, Office of Nuclear Reactor Regulation.

[FR Doc. E6-16448 Filed 10-4-06; 8:45 am]

BILLING CODE 7590-01-P